DEPARTMENT OF TRANSPORTATION

Federal Aviation Administration

RTCA Special Committee 147 Sixty-Sixth Plenary: Minimum Operational Performance Standards for Traffic Alert and Collision Avoidance Systems Airborne Equipment/Fourth Meeting of Working Group 75

AGENCY: Federal Aviation Administration (FAA), DOT.

ACTION: Notice of RTCA Special Committee 147 meeting.

SUMMARY: The FAA is issuing this notice to advise the public of a meeting of RTCA Special Committee 147: Minimum Operational Performance Standards for Traffic Alert and Collision Avoidance Systems Airborne Equipment and Working Group 75.

DATES: The meeting will be held December 11-13, 2007 from 9 a.m.-5 p.m.

ADDRESSES: The meeting will be held at EUROCONTROL Headquarters Brussels, Belgium.

FOR FURTHER INFORMATION CONTACT: RTCA Secretariat, 1828 L Street, NW., Suite 805, Washington, DC 20036; telephone (202) 833-9339; fax (202) 833-9434; Web-site http://ww.rtca.org. POC: Mr. John Law, +32 (0) 2 729 3766, john.law@eurocontrol.int.

SUPPLEMENTARY INFORMATION: Pursuant to section 10(a)(2) of the Federal Advisory Committee Act (Pub. L. 92-463, 5 U.S.C., Appendix 2), notice is hereby given for a Special Committee 147 meeting and Working Group 75. The agenda will include:

• December 11-13:

• Opening Plenary Session: (Welcome and Introductory Remarks, Review/Approval of minutes from 65th SC-147 meeting, Review Agenda).

• Briefing of FAA TCAS Program Office Activities:

• Analysis of New York AVSA/LOLO data.

• FAA Ops Workshop Results.

• Other Program Office activities and plans.

• EUROCONTROL TCAS II Program Office Activities.

• SC-147/WG 75 Activity Reports.

• WG 75 Validation Report.

• RWG report on current status of Draft DO-185B and proposed changes.

• Consideration of Final Draft of TCAS MOPS-DO-185B.

• Content discussion.

• FRAC and MOPS approval schedule.

• Closing Session (Other Business, Future Actions/Activities, Date and Place of Next Meeting, Adjourn).

Attendance is open to the interested public but limited to space availability. With the approval of the chairmen, members of the public may present oral statements at the meeting. Persons wishing to present statements or obtain information should contact the person listed in the FOR FURTHER INFORMATION CONTACT section.

Members of the public may present a written statement to the committee at any time.

Issued in Washington, DC, on November 16, 2007.
Francisco Estrada C.,
RTCA Advisory Committee.

[FR Doc. 07-5804 Filed 11-23-07; 8:45 am]

BILLING CODE 4910-13-M